DEPARTMENT OF DEFENSE

Office of the Secretary

[Transmittal Nos. 15-16]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 15-16 with attached transmittal, policy justification, and Sensitivity of Technology.

Dated: May 8, 2015.
Aaron Siegel,
Alternate OSD Federal Register Liaison Officer, Department of Defense.

Transmittal No. 15-16

Notice of Proposed Issuance of Letter of Offer Pursuant to Section 36(b)(1) of the Arms Export Control Act, as amended

(i) Prospective Purchaser: Malaysia

(ii) Total Estimated Value:

Major Defense Equipment * | $17 million
Other | $ 4 million
TOTAL | $21 million

(iii) Description and Quantity of Articles or Services under Consideration for Purchase: 10 AIM-120C7 Advanced Medium Range Air-to-Air Missiles (AMRAAM), missile containers, spare and repair parts, support and test equipment, publications and technical documentation, personnel training and training equipment, U.S. Government and contractor engineering, technical and logistics support services, site surveys and studies, and other related elements of logistical and program support.

(iv) Military Department: Air Force (YBF, Amendment #1)

(v) Prior Related Cases, if any: FMS Case YBF-$15M-17Jul10

(vi) Sales Commission, Fee, etc., Paid, Offered, or Agreed to be Paid: None

(vii) Sensitivity of Technology Contained in the Defense Article or Defense Services Proposed to be Sold: See Attached Annex

(viii) Date Report Delivered to Congress: 04 May 2015

* As defined in Section 47(6) of the Arms Export Control Act.

POLICY JUSTIFICATION

Malaysia—AIM-120C7 AMRAAM Missiles

The Government of Malaysia has requested a possible sale of 10 AIM-120C7 Advanced Medium Range Air-to-Air Missiles (AMRAAM), missile containers, spare and repair parts, support and test equipment, publications and technical documentation, personnel training and training equipment, U.S. Government and contractor engineering, technical and logistics support services, site surveys and studies, and other related elements of logistical and program support. The estimated cost is $21 million.

This proposed sale will contribute to the foreign policy and national security of the United States by helping to improve the security of a key partner which has been, and continues to be, an important force for political stability and economic progress in Southeast Asia. This sale will increase Malaysia's interoperability with the United States, enhancing regularly scheduled joint exercises and training. It also ensures a sustained air-to-air capability for Malaysia's F/A-18D aircraft.

Malaysia will use this capability as a deterrent to regional threats and to strengthen its homeland defense. Malaysia, which already has AMRAAM missiles in its inventory, will have no difficulty absorbing these additional missiles into its armed forces.

The proposed sale of this equipment and support does not alter the basic military balance in the region.

The principal contractor will be Raytheon Corporation in Tucson, Arizona. The purchaser has requested offsets. At this time, agreements are undetermined and will be defined in negotiations between the purchaser and contractor.

Implementation of this proposed sale will not require the assignment of any additional U.S. Government or contractor representatives to Malaysia.

There is no adverse impact on U.S. defense readiness as a result of this proposed sale.

Transmittal No. 15-16

Notice of Proposed Issuance of Letter of Offer Pursuant to Section 36(b)(1) of the Arms Export Control Act

Annex

Item No. vii

(vii) Sensitivity of Technology:

1. The AIM-120C Advanced Medium Range Air-to-Air Missile (AMRAAM) is a radar guided missile featuring digital technology and micro-miniature solid-state electronics. AMRAAM capabilities include look-down/shoot-down, multiple launches against multiple targets, resistance to electronic counter measures, and interception of high-flying and low-flying and maneuvering targets. The AMRAAM All Up Round is classified Confidential, major components and subsystems range from Unclassified to Confidential, and technical data and other documentation are classified up to Secret.

2. If a technologically advanced adversary were to obtain knowledge of the specific hardware and software elements, the information could be used to develop countermeasures that might reduce weapon system effectiveness or be used in the development of a system with similar or advanced capabilities.

3. A determination has been made that the recipient country can provide substantially the same degree of protection for the sensitive technology being released as the U.S. Government. This sale is necessary in furtherance of the U.S. foreign policy and national security objectives outlined in the Policy Justification.

4. All defense articles and services listed in this transmittal have been authorized for release and export to Malaysia.

[FR Doc. 2015-11599 Filed 5-13-15; 8:45 am]

BILLING CODE 5001-06-P